DEPARTMENT OF THE INTERIOR

National Park Service

[NPS-WASO-NRNHL-DTS#-31254; PPWOCRADI0, PCU00RP14.R50000]

National Register of Historic Places; Notification of Pending Nominations and Related Actions

AGENCY: National Park Service, Interior.

ACTION: Notice.

SUMMARY: The National Park Service is soliciting electronic comments on the significance of properties nominated before December 5, 2020, for listing or related actions in the National Register of Historic Places.

DATES: Comments should be submitted electronically by January 4, 2021.

ADDRESSES: Comments are encouraged to be submitted electronically to National_Register_Submissions@nps.gov with the subject line “Public Comment on <property or proposed district name, (County) State>.” If you have no access to email you may send them via U.S. Postal Service and all other carriers to the National Register of Historic Places, National Park Service, 1849 C Street NW, MS 7228, Washington, DC 20240.

SUPPLEMENTARY INFORMATION: The properties listed in this notice are being considered for listing or related actions in the National Register of Historic Places. Nominations for their consideration were received by the National Park Service before December 5, 2020. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

ARKANSAS

Benton County

Bella Vista Village Country Club, (Arkansas Designs of E. Fay Jones MPS), 98 Clubhouse Dr., Bella Vista, MP100006021

Conway County

Highway A-1 Bridge, (Historic Bridges of Arkansas MPS), Old US 64 west of Hivilies Dr., Plumerville, MP100006022

Fulton County

Castleberry Building, 102 South Main St., Salem, SG100006023

Garland County

City Cemetery, 740 Adams St., Hot Springs, SG100006024

Ouachita County

Spring-Harrison Historic District, Spring St. roughly between Greening and Thompson Sts.' Clifton St. roughly between Spring and Harrison Sts., and Harrison St. roughly between Van Buren and Clifton Sts., Camden, SG100006026

Perry County

Perry Rock Island Railroad Depot, (Historic Railroad Depots of Arkansas MPS), 8 German Rd., Perry, MP100006027

Pulaski County

Daniel, Irvin and Elizabeth House, 1622 Waterside Dr., North Little Rock, SG100006028

Locust Street Overpass

Locust St. between S.A. Jones Dr. (East 9th St.) and East 13th St., North Little Rock, SG100006030

Newbill-Porter House

3900 North Lookout St., Little Rock, SG100006031

Oak Forest United Methodist Church

2415 Fair Park Blvd., Little Rock, SG100006032

Millett, Robert and Marion, House No. 1

1708 Waterside Dr., North Little Rock, SG100006033

Vestal, Walter, House

331 Goshen Ave., North Little Rock, SG100006034

Sebastian County

United Hebrew Congregation Tilles Memorial Temple, 126 North 47th St., Fort Smith, SG100006035

ILLINOIS

Cook County

Pyle-National Company Plant, 1334 North Kostner Ave., Chicago, SG100006017

LOUISIANA

Orleans Parish

Nelson, Médard, Home and School, 1218-1220 Burgundy St., New Orleans, SG100005998

MICHIGAN

Ingham County

North Lansing Historic Commercial District (Boundary Increase), Generally, 611 East-127 West Cesar E. Chavez Ave., 1207-1250 Turner Rd., 901-1135 North Washington St., and adjacent streets, Lansing, BC100006010

MINNESOTA

Carver County

District No. 22 School, 17380 Homestead Rd., San Francisco Township, SG100006006

Dakota County

Hudson Manufacturing Company Factory, 200 West 2nd St., Hastings, SG100006002

Dodge County

West Concord High School, 600 1st St. West, West Concord, SG100006007

Hennepin County

Northrup. King & Company Complex, 1500 Jackson St. NE, Minneapolis, SG100006005

Ramsey County

Roselawn Chapel and Administration Building, 803 West Larpenteur Ave., Roseville, SG100006008

NEW YORK

Dutchess County

Rhinebeck Village Historic District (Boundary Increase), (Rhinebeck Town MRA), Portions of Platt Ave., Mill, Oak, Mulberry, and North Parsonage Sts., Rhinebeck, BC100006011

Tompkins County

Cayuga Preventorium, 1420 Taughannock Blvd., Ithaca vicinity, SG100006012

PENNSYLVANIA

Philadelphia County

St. Gabriel's Roman Catholic Church Complex, 1432-48 South 29th St., 2922-28 and 2930-36 Dickinson St., Philadelphia, SG100006036

SOUTH CAROLINA

Florence County

Ebony Guest House, 712-714 Wilson St., Florence, SG100006018

Richland County

Citadel Shirt Corporation, 1215 Shop Rd., Columbia vicinity, SG100006019

Leevy's Funeral Home

(Segregation in Columbia, South Carolina MPS), 1831 Taylor St., Columbia, MP100006020

UTAH

Box Elder County

Tremonton Historic District, Roughly bounded by 600 South, 400 West, 800 North, and 300 East, Tremonton, SG100006013

Millard County

Fillmore Armory, (Public Works Buildings TR), 35 West Center St., Fillmore, MP100006003

Salt Lake County

Magna Commercial Downtown Historic District, (Historic Resources of Magna, Utah, 1850-1972 MPS), Along West Main St., Magna, MP100006004

Nelson, Harlan and Marie, House, 2785 East Lancaster Dr., Salt Lake City, SG100006014

A request for removal has been made for the following resource:

ARKANSAS

Lincoln County

Tracy, Charles Hampton, House, 2794 Blair Rd, Star City vicinity, OT10001156

Additional documentation has been received for the following resources:

MICHIGAN

Ingham County

North Lansing Historic Commercial District (Additional Documentation), East Grand River Ave. and Turner St., Lansing, AD76001029

Wayne County

Rosedale Park Historic District (Additional Documentation), Roughly bounded by Fenkell St., Outer Dr. West, Grand River Ave., Southfield Frwy., Glastonbury Ave., Lyndon St., Westwood Dr., Detroit, AD06000587

NEW YORK

Dutchess County

Rhinebeck Village Historic District, (Rhinebeck Town MRA), US 19 and NY 308, Rhinebeck, AD79001578

Nominations submitted by Federal Preservation Officers:

The State Historic Preservation Officer reviewed the following nominations and responded to the Federal Preservation Officer within 45 days of receipt of the nominations and supports listing the properties in the National Register of Historic Places.

MICHIGAN

Keweenaw County

New Feldtmann Fire Tower, (Isle Royale National Park Fire Towers MPS), Feldtmann Ridge Trail, Isle Royale NP, Houghton vicinity, MP100006000

Ishpeming Fire Tower, (Isle Royale National Park Fire Towers MPS), Greenstone Ridge Trail, Isle Royale NP, Houghton vicinity, MP100006001

Authority: Section 60.13 of 36 CFR part 60.

Dated: December 9, 2020.
Sherry A. Frear,
Chief, National Register of Historic Places/National Historic Landmarks Program.

[FR Doc. 2020-27890 Filed 12-17-20; 8:45 am]

BILLING CODE 4312-52-P